DEPARTMENT OF ENERGY

Federal Energy Regulatory Commission

[Docket No. EL01-1-000]

California Municipal Utilities Association, Complainant

October 11, 2000.

California Municipal Utilities Association, Complainant, v. All Jurisdictional Sellers of Energy and Ancillary Services Into The Energy and Ancillary Services Markets Operated by the California Independent System Operator Corporation and the California Power Exchange; California Independent System Operator Corporation; and California Power Exchange Corporation, Respondents. San Diego Gas & Electric Company, Investigation of Practices of the California Independent System Operator and the California Power Exchange, California Electricity Oversight Board, Public Meeting in San Diego, California; Notice of Complaint

Take notice that on October 6, 2000, the California Municipal Utilities Association submitted a Complaint, Request to Institute Cost-Base Rates, and Motion To Consolidate. CMUA alleges that the markets for energy and ancillary services operated by the California Power Exchange Corporation (the PX) and the California Independent System Operator Corporation (the ISO) are not workably competitive and that the prices in those markets are unjust and unreasonable. Further, CMUA requests that the Commission order all sellers into those markets to tender cost-based filings, and that the Commission consolidate this docket with other dockets captioned above.

Copies of the filing were served upon the ISO, the PX, and the service lists in the above-captioned dockets, and transmitted electronically through ISO-compiled electronic mail lists.

Any person desiring to be heard or to protest said filing should file a motion to intervene or a protest with the Federal Energy Regulatory Commission, 888 First Street, NE., Washington, DC 20426, in accordance with Rules 211 and 214 of the Commission's Rules of Practice and Procedure (18 CFR 385.211 and 385.214). All such motions or protests must be filed on or before October 26, 2000. Protests will be considered by the Commission in determining the appropriate action to be taken, but will not serve to make protestants parties to the proceeding. Any person wishing to become a party must file a motion to intervene. Copies of this filing are on file with the Commission and are available for public inspection in the Public Reference Room. This filing may be viewed on the Internet at http://www.ferc.fed.us/online/rims.htm (call 202-208-2222) for assistance. Answers to the complaint shall also be due on or before October 26, 2000.

David P. Boergers,
Secretary.

[FR Doc. 00-26616 Filed 10-16-00; 8:45 am]

BILLING CODE 6717-01-M